DEPARTMENT OF EDUCATION

National Advisory Council on Indian Education (NACIE); Meeting

AGENCY: U.S. Department of Education.

ACTION: Notice meeting.

SUMMARY: Notice of this meeting is required by Section 10(a)(2) of the Federal Advisory Committee Act (FACA) and is intended to notify members of the public of an upcoming NACIE closed teleconference meeting. This notice is being published less than 15 days prior to the date of the meeting due to delays in making arrangements for a virtual closed meeting due to the COVID-19 impact on the capability to have face-to-face Council meetings.

DATES: The NACIE closed teleconference meeting will be held on May 27, 2020, 3:00 p.m. (EDT).

FOR FURTHER INFORMATION CONTACT: Angela Hernandez Marshall, Designated Federal Official, Office of Elementary and Secondary Education (OESE)/Office of Indian Education (OIE), U.S. Department of Education, 400 Maryland Avenue SW, Room 3W113, Washington, DC 20202. Telephone: 202-205-1909, Email: Angela.Hernandez-Marshall@ed.gov.

SUPPLEMENTARY INFORMATION: Statutory Authority and Function: NACIE is authorized by Section 6141 of the Elementary and Secondary Education Act of 1965. NACIE is established within the U.S. Department of Education to advise the Secretary of Education (Secretary) and the Secretary of Interior on the funding and administration (including the development of regulations, and administrative policies and practices) of any program over which the Secretary has jurisdiction and includes Indian children or adults as participants or that may benefit Indian children or adults, including any program established under Title VI, Part A of the Elementary and Secondary Education Act. In addition, NACIE advises the White House Initiative on American Indian and Alaska Native Education, in accordance with Section 5(a) of Executive Order 13592. NACIE submits to the Congress each year a report on its activities that includes recommendations that are considered appropriate for the improvement of Federal education programs that include Indian children or adults as participants or that may benefit Indian children or adults, and recommendations concerning the funding of any such program.

Meeting Agenda: The purpose of the meeting is to convene NACIE members, per its authorizing legislation and the provisions of FACA, to deliberate and vote on the recommendation from NACIE's OIE Director Hiring subcommittee. In turn, NACIE shall prepare its recommendation to the Secretary for filling the OIE Director position. The discussions during this meeting will pertain solely to internal personnel rules and practices of an agency and information of a personal nature where disclosure would constitute a clearly unwarranted invasion of personal privacy. As such, the discussions are protected by exemptions 2 and 6 of § 552b(c) of Title 5 of the United States Code.

Public Comment: Members of the public interested in submitting written comments may do so via email to Anglea.Hernandez-Marshall@ed.gov. Please note, written comments should pertain to the work of NACIE and/or the Office of Indian Education.

Access to Records of the Meeting: The Department will post the official closed meeting report of this meeting on the OESE website at: https://oese.ed.gov/offices/office-of-indian-education/national-advisory-council-on-indian-education-oie/ 21 days after the meeting. Pursuant to the FACA, the public may also inspect NACIE records at the Office of Indian Education, United States Department of Education, 400 Maryland Avenue SW, Washington, DC 20202, Monday-Friday, 8:30 a.m. to 5:00 p.m. Eastern Time. Please email Wanda.Lee@ed.gov or by calling Wanda Lee at (202) 453-7262 to schedule an appointment.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: § 6141 of the Elementary and Secondary Education Act of 1965 (ESEA) as amended by Every Student Succeeds Act (ESSA) (20 U.S.C. 7471).

Frank T. Brogan,
Assistant Secretary, Office of Elementary and Secondary Education.

[FR Doc. 2020-11266 Filed 5-26-20; 8:45 am]

BILLING CODE 4000-01-P